DEPARTMENT OF JUSTICE

Office of Justice Programs

Agency Information Collection Activities: Proposed Collection; Comments Requested

ACTION: 60-day notice of information collection under review: extension of a currently approved collection for which approval will expire: National Crime Victimization Survey (NCVS).

The Department of Justice (DOJ), Office of Justice Programs, Bureau of Justice Statistics has submitted the following information collection request to the Office of Management and Budget (OMB) for review and approval in accordance with the Paperwork Reduction Act of 1995. The proposed information collection is published to obtain comments from the public and affected agencies. Comments are encouraged and will be accepted for “sixty days” until May 27, 2003. This process is conducted in accordance with 5 CFR 1320.10.

If you have comments especially on the estimated public burden or associated response time, suggestions, or need a copy of the proposed information collection instrument with instructions or additional information, please contact Craig A. Perkins, National Crime Victimization Survey (NCVS), (202) 307-0758, Office of Justice Programs, US Department of Justice, 810 Seventh Street NW., Washington, DC 20531.

Request written comments and suggestions from the public and affected agencies concerning the proposed collection of information. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: Extension of a Currently Approved Collection

(2) The title of the form/collection: National Crime Victimization Survey.

(3) The agency form number, if any, and the applicable component of the department sponsoring the collection: Form Number: NCVS-1, NCVS-1A, NCVS-2, NCVS-500, NCVS-7, NCVS-572(L), NCVS-573(L), NCVS-574(L), NCVS-541, NCVS-545, NCVS-1SP, and NCVS-2SP.

(4) Affected public who will be asked or required to respond, as well as a brief abstract. Primary: Individuals or Households. Other: None. The National Crime Victimization Survey collects, analyzes, publishes, and disseminates statistics on the amount and type of crime committed against households and individuals in the United States. Respondents include persons age 12 or older living in about 45,650 interviewed households.

(5) An estimate of the total number of respondents is 110,100 and the amount of time estimated for an average respondent to respond/reply: It will take the average interviewed respondent an estimated 23 minutes to respond, the average non-interviewed respondent an estimated 7 minutes to respond, the estimated average followup interview is 12 minutes, and the estimated average followup for a non-interview is 1 minute.

(6) An estimate of the total public burden (in hours) associated with the collection is 74,010 hours annual burden.

If additional information is required contact: Brenda E. Dyer, Department Deputy Clearance Officer, Information Management and Security Staff, Justice Management Division, United States Department of justice, 601 D Street NW., Patrick Henry Building, Suite 1600, NW., Washington, DC 20530.

Dated: March 21, 2003.
Brenda E. Dyer,
Department Deputy Clearance Officer, United States Department of Justice.

[FR Doc. 03-7240 Filed 3-25-03; 8:45 am]

BILLING CODE 4410-18-M